DEPARTMENT OF COMMERCE

National Oceanic and Atmospheric Administration

50 CFR Part 648

[RTID 0648-XA843]

Fisheries of the Northeastern United States; Summer Flounder Fishery; Retroactive Quota Transfer From NC to MA

AGENCY: National Marine Fisheries Service (NMFS), National Oceanic and Atmospheric Administration (NOAA), Commerce.

ACTION: Notice; quota transfer.

SUMMARY: NMFS announces that the State of North Carolina is transferring a portion of its 2020 commercial summer flounder quota to the Commonwealth of Massachusetts. This retroactive adjustment to the 2020 fishing year quota is necessary to comply with the Summer Flounder, Scup, and Black Sea Bass Fishery Management Plan quota transfer provisions. This announcement informs the public of the retroactively revised 2020 commercial quotas for North Carolina and Massachusetts.

DATES: Effective February 5, 2021, through December 31, 2021.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2020 allocations were published on October 9, 2019 (84 FR 54041).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would not preclude the overall annual quota from being fully harvested; the transfer addresses an unforeseen variation or contingency in the fishery; and, the transfer is consistent with the objectives of the FMP and the Magnuson-Stevens Act. The Regional Administrator has determined these three criteria have been met for the transfer approved in this notice.

North Carolina is transferring 9,185 lb (4,166 kg) of 2020 summer flounder commercial quota to Massachusetts through mutual agreement of the states. This transfer was requested to repay landings made by a North Carolina-permitted vessel in Massachusetts under a safe harbor agreement. The revised summer flounder quotas for calendar year 2020 are: North Carolina, 3,026,316 lb (1,372,714 kg); and, Massachusetts, 802,549 lb (364,030 kg).

Given the timing of the safe harbor agreement and the states' request, we were unable to process the transfer before the December 31st end of the 2020 fishing year. The retroactively adjusted quotas will be used to calculate overages for the 2020 fishing year and adjust, as needed, 2021 summer flounder quotas.

Authority: 16 U.S.C. 1801 et seq.

Dated: February 3, 2021.
Jennifer M. Wallace,
Acting Director, Office of Sustainable Fisheries, National Marine Fisheries Service.

[FR Doc. 2021-02521 Filed 2-5-21; 8:45 am]

BILLING CODE 3510-22-P